ENVIRONMENTAL PROTECTION AGENCY

[FRL-8313-9]

Science Advisory Board Staff Office; Notification of a Public Teleconference of the Science Advisory Board; Environmental Economics Advisory Committee

AGENCY: Environmental Protection Agency (EPA).

ACTION: Notice.

SUMMARY: The EPA's Science Advisory Board (SAB) Staff Office is announcing a public teleconference of the SAB Environmental Economics Advisory Committee (EEAC) to discuss its draft advisory report to EPA regarding issues in valuing mortality risk reduction.

DATES: The teleconference will be held from 1 p.m.-4 p.m. Eastern time on June 4, 2007.

FOR FURTHER INFORMATION CONTACT: Any member of the public wishing further information regarding the public teleconference and call-in number may contact Dr. Holly Stallworth, Designated Federal Officer (DFO), U.S. EPA Science Advisory Board Staff Office by telephone/voice mail at (202) 343-9867, or via e-mail at stallworth.holly@epa.gov. The SAB mailing address is: U.S. EPA, Science Advisory Board (1400F), 1200 Pennsylvania Avenue, NW., Washington, DC 20460. General information about the SAB, as well as any updates concerning the public teleconference announced in this notice, may be found in the SAB Web Site at: http://www.epa.gov/sab. The technical contact for EPA's work on valuing mortality risk reduction is Dr. Chris Dockins who may be reached at (202) 566-2286 or dockins.chris@epa.gov.

SUPPLEMENTARY INFORMATION: Pursuant to the Federal Advisory Committee Act, Public Law 92-463, notice is hereby given that the SAB Environmental Economics Advisory Committee will hold a public teleconference to discuss appropriate methods for valuing mortality risks. The SAB EEAC will be augmented by economists from the chartered Science Advisory Board as well as the Advisory Council on Clean Air Compliance Analysis. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background

The SAB EEAC has been asked to review two papers related to EPA's issues in valuing mortality risk reduction. The first paper entitled “Report of the EPA Work Group on VSL Meta-Analyses” addresses the application of meta analysis techniques to the derivation of estimates for mortality risk reduction. A second paper, entitled “Willingness to Pay for Environmental Health Risk Reductions when there are Varying Degrees of Life Expectancy: A White Paper” discusses appropriate and available methods for valuing mortality risk reductions when affected populations have varying life expectancies. http://yosemite.epa.gov/EE/epa/eerm.nsf/vwRepNumLookup/EE-0495?OpenDocument. These papers are posted at: http://yosemite.epa.gov/EE/epa/eerm.nsf/vwRepNumLookup/EE-0494?OpenDocument and http://yosemite.epa.gov/EE/epa/eerm.nsf/vwRepNumLookup/EE-0495?OpenDocument. The SAB EEAC met on September 14-15, 2006 (71 FR 48546), and a teleconference was held on October 30, 2006 (71 FR 59779-59780). During the June 4, 2007 teleconference, the SAB EEAC members will discuss their draft advisory responding to EPA's charge questions on the two papers cited above.

Availability of Teleconference Materials: Materials in support of the teleconference, including the SAB EEAC's draft response to the Agency's charge, will be placed on the SAB Web Site at http://www.epa.gov/sab/panels/eeac_adv_val_mortal_rick_reduc.htm prior to the teleconference.

Procedures for Providing Public Input: Interested members of the public may submit relevant written or oral information for the SAB to consider during the advisory process.

Oral Statements: In general, individuals or groups requesting an oral presentation at a public teleconference will be limited to five minutes per speaker, with no more than a total of one hour for all speakers. Interested parties should contact Dr. Stallworth, DFO, at the contact information noted above, by May 25, 2007, to be placed on the public speaker list for the June 4, 2007 teleconference. Written Statements: Written statements should be received in the SAB Staff Office by May 25, 2007, so that the information may be made available to the SAB for their consideration prior to this teleconference. Written statements should be supplied to the DFO in the following formats: One hard copy with original signature, and one electronic copy via e-mail to stallworth.holly@epa.gov (acceptable file format: Adobe Acrobat PDF, WordPerfect, MS Word, MS PowerPoint, or Rich Text files in IBM-PC/Windows 98/2000/XP format).

Meeting Access: For information on access or services for individuals with disabilities, please contact Dr. Stallworth at (202) 343-9867 or stallworth.holly@epa.gov. To request accommodation of a disability, please contact Dr. Stallworth, preferably at least 10 days prior to the meeting to give EPA as much time as possible to process your request.

Dated: May 4, 2007.
Anthony F. Maciorowski,
Deputy Director, EPA Science Advisory Board Staff Office.

[FR Doc. E7-9099 Filed 5-10-07; 8:45 am]

BILLING CODE 6560-50-P